DEPARTMENT OF AGRICULTURE

Forest Service

Carson National Forest; New Mexico; Revision of the Land Management Plan for the Carson National Forest

AGENCY: Forest Service, Agriculture (USDA).

ACTION: Notice of opportunity to object to the revised Land Management Plan for the Carson National Forest.

SUMMARY: The Forest Service is revising the Carson National Forest's Land Management Plan (Forest Plan). The Forest Service has prepared a Final Environmental Impact Statement (FEIS) for its revised Forest Plan and a draft Record of Decision (ROD). This notice is to inform the public that the Carson National Forest is initiating a 60-day period where individuals or entities with specific concerns about the Carson National Forest's revised Forest Plan and the associated FEIS may file objections for Forest Service review prior to the approval of the revised Forest Plan. This is also an opportunity to object to the Regional Forester's list of species of conservation concern for the Carson National Forest.

DATES: The publication date of the legal notice in the Carson National Forest's newspaper of record, Taos News, initiates the 60-day objection period and is the exclusive means for calculating the time to file an objection (36 CFR 219.52(c)(5)). An electronic scan of the legal notice with the publication date will be posted at https://www.fs.usda.gov/project/?project=47966.

ADDRESSES: The Carson National Forest's revised Forest Plan, FEIS, draft ROD, species of conservation concern list, and other supporting information will be available for review at: https://www.fs.usda.gov/project/?project=47966. Copies of the Carson National Forest's revised Forest Plan, FEIS, draft ROD, and Regional Forester's list of species of conservation concern for the Carson National Forest can be obtained online at: https://www.fs.usda.gov/project/?project=47966, or at the following office: Carson National Forest Supervisor's Office, 208 Cruz Alta Rd., Taos, NM 87571, Phone: (575) 758-6200.

Objections must be submitted to the Objection Reviewing Officer by one of the following methods:

• Via regular mail, carrier, or hand delivery to the following address: USDA-Forest Service Southwest Region, ATTN: Objection Reviewing Officer, 333 Broadway Blvd. SE, Albuquerque, NM 87102 (Fax: 505-842-3173). Office hours for submitting a hand-delivered objection are 8:00 a.m. to 4:30 p.m. Monday through Friday, excluding Federal holidays.

• Electronically at objections-southwestern-regional-office@usda.gov with subject: Carson National Forest Plan Revision Objection. Electronically filed objections may be submitted by email in word (.doc or .docx), rich text format (.rtf), text (.txt), portable document format (.pdf), and/or hypertext markup language (.html).

• Electronically to the Objection Reviewing Officer via the CARA objection web form: https://cara.ecosystem-management.org/Public//CommentInput?Project=47966. Electronic submissions must be submitted in a format (Word, PDF, or Rich Text) that is readable and searchable with optical character recognition software.

• By Fax: 505-842-3173. Faxes must be addressed to “Objection Reviewing Officer.” The fax coversheet should include a subject line with “Carson National Forest Plan Revision Objection” or “Carson Species of Conservation Concern” and specify the number of pages being submitted.

FOR FURTHER INFORMATION CONTACT: Forest Planner, Peter Rich at (575) 758-6277 or peter.rich@usda.gov.

Individuals who use telecommunication devices for the hearing-impaired (TDD) may call the Federal Information Relay Service (FIRS) at 1-800-877-8339 between 8:00 a.m. and 8:00 p.m., Eastern Daylight Time, Monday through Friday.

SUPPLEMENTARY INFORMATION: The decision to approve the revised Forest Plan and the Regional Forester's list of species of conservation concern for the Carson National Forest will be subject to the objection process identified in 36 CFR part 219 Subpart B (219.50 to 219.62).

How To File an Objection

Objections must be submitted to the Objection Reviewing Officer at the address shown in the ADDRESSES section of this notice. An objection must include the following (36 CFR 219.54(c)):

(1) The objector's name and address along with a telephone number or email address if available. In cases where no identifiable name is attached to an objection, the Forest Service will attempt to verify the identity of the objector to confirm objection eligibility;

(2) Signature or other verification of authorship upon request (a scanned signature for electronic mail may be filed with the objection);

(3) Identification of the lead objector, when multiple names are listed on an objection. The Forest Service will communicate to all parties to an objection through the lead objector. Verification of the identity of the lead objector must also be provided if requested;

(4) The name of the plan, plan amendment, or plan revision being objected to, and the name and title of the responsible official;

(5) A statement of the issues and/or parts of the plan, plan amendment, or plan revision to which the objection applies;

(6) A concise statement explaining the objection and suggesting how the draft plan decision may be improved. If the objector believes that the plan, plan amendment, or plan revision is inconsistent with law, regulation, or policy, an explanation should be included;

(7) A statement that demonstrates the link between the objector's prior substantive formal comments and the content of the objection, unless the objection concerns an issue that arose after the opportunities for formal comment; and

(8) All documents referenced in the objection (a bibliography is not sufficient), except the following need not be provided:

a. All or any part of a Federal law or regulation,

b. Forest Service Directive System documents and land management plans or other published Forest Service documents,

c. Documents referenced by the Forest Service in the planning documentation related to the proposal subject to objection, and

d. Formal comments previously provided to the Forest Service by the objector during the proposed plan, plan amendment, or plan revision comment period.

It is the responsibility of the objector to ensure that the Objection Reviewing Officer receives the objection in a timely manner. The regulations prohibit extending the length of the objection filing period (36 CFR 219.56(d)).

Responsible Official

The responsible official who will approve the ROD and the revised Forest Plan for the Carson National Forest is James Duran, Forest Supervisor, Carson National Forest, Carson National Forest Supervisor's Office, 208 Cruz Alta Rd., Taos, NM 87571, and Phone: (575) 758-6301. The responsible official for the list of species of conservation concern is Michiko Martin, Regional Forester, USDA Forest Service Southwestern Region, 333 Broadway Blvd. SE, Albuquerque NM 87102.

The Regional Forester is the reviewing officer for the revised Forest Plan since the Forest Supervisor is the responsible official (36 CFR 219.56(e)(2)). The decision to approve the species of conservation concern list will be subject to a separate objection process. The Chief of the Forest Service is the reviewing officer for species of conservation concern identification since the Regional Forester is the responsible official (36 CFR 219.56(e)(2)).

Dated: August 20, 2021.
Barnie Gyant,
Associate Deputy Chief, National Forest System.

[FR Doc. 2021-18957 Filed 9-1-21; 8:45 am]

BILLING CODE 3411-15-P